DEPARTMENT OF AGRICULTURE

Agricultural Marketing Service

7 CFR Part 981

[Doc. No. AMS-SC-16-0045; SC16-981-2 PR]

Almonds Grown in California; Increased Assessment Rate

AGENCY: Agricultural Marketing Service, USDA.

ACTION: Proposed rule; reopening of comment period.

SUMMARY: Notice is hereby given that the comment period on the proposed rule to increase the assessment rate for California almonds under Marketing Order No. 981 (order) is reopened until October 12, 2016. The proposed rule would implement a recommendation from the Almond Board of California (Board) to increase the assessment rate established for the 2016-17 through the 2018-19 crop years from $0.03 to $0.04 per pound of almonds handled under the marketing order (order). Of the $0.04 per pound assessment, 60 percent (or $0.024 per pound) would be available as credit-back for handlers who conduct their own promotional activities.

DATES: Comments must be received by October 12, 2016.

ADDRESSES: Interested persons are invited to submit written comments concerning the proposal. Comments should be sent to the Docket Clerk, Marketing Order and Agreement Division, Specialty Crops Program, AMS, USDA, 1400 Independence Avenue SW., STOP 0237, Washington, DC 20250-0237; Fax: (202) 720-8938; or Internet: http://www.regulations.gov. All comments should reference the document number and the date and page number of this issue and the July 18, 2016, issue of the Federal Register and will be available for public inspection in the office of the Docket Clerk during regular business hours, or can be viewed at: http://www.regulations.gov. All comments submitted in response to the proposed rule will be included in the record and will be made available to the public. Please be advised that the identity of the individuals or entities submitting the comments will be made public on the internet at the address provided above.

FOR FURTHER INFORMATION CONTACT: Andrea Ricci, Marketing Specialist or Jeffrey Smutny, Regional Director, California Marketing Field Office, Marketing Order and Agreement Division, Specialty Crops Program, AMS, USDA; Telephone: (559) 487-5901, Fax: (559) 487-5906, or Email: with Andrea.Ricci@ams.usda.gov or Jeffrey.Smutny@ams.usda.gov.

Small businesses may request information on complying with this regulation by contacting Richard Lower, Marketing Order and Agreement Division, Specialty Crops Program, AMS, USDA, 1400 Independence Avenue SW., STOP 0237, Washington, DC 20250-0237; Telephone: (202) 720-2491, Fax: (202) 720-8938, or Email: Richard.Lower@ams.usda.gov.

SUPPLEMENTARY INFORMATION: A proposed rule was published in the Federal Register on July 18, 2016 (81 FR 46616). The proposed rule would increase the assessment rate for the 2016-17 through 2018-19 crop years from $0.03 to $0.04 per pound of almonds received. Of the $0.04 per pound assessment, 60 percent (or $0.024 per pound) would be available as credit-back for handlers who conduct their own promotional activities. The assessment rate would return to $0.03 for the 2019-20 and subsequent crop years, and the amount available for handler credit-back would return to $0.018 per pound (60 percent).

USDA received a comment from an affected industry member requesting that the comment period be reopened to allow more time to comment on the proposed rule. This industry member expressed concern that while the proposed rule was published in the Federal Register on July 18, 2016, industry members did not receive the notification until July 28, 2016, which did not allow adequate time for interested persons to comment by the August 2, 2016, deadline.

After reviewing the request, USDA is reopening the comment period for 30 additional days. This will provide interested persons more time to review the proposed rule, perform a complete analysis, and submit written comments.

Authority: This notice is issued pursuant to the Agricultural Marketing Agreement Act of 1937 (7 U.S.C. 601-674).

Dated: September 7, 2016.
Elanor Starmer,
Associate Administrator, Agricultural Marketing Service.

[FR Doc. 2016-21851 Filed 9-9-16; 8:45 am]

BILLING CODE P